FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202)-523-5793 or tradeanalysis@fmc.gov.

Agreement No.: 201429-002.

Agreement Name: Gemini Cooperation Agreement.

Parties: Hapag-Lloyd AG and Hapag-Lloyd USA, LLC (acting as a single party); Maersk A/S.

Filing Party: Wayne Rohde, Cozen O'Connor.

Synopsis: The amendment clarifies the use of space to transport dual use and military cargoes. It also adds India to the geographic scope of the Agreement.

Proposed Effective Date: 7/3/2025.

Location: https://www2.fmc.gov/FMC.Agreements.Web/Public/AgreementHistory/86566.

Agreement No.: 201454.

Agreement Name: The AWC-APX Vessel Sharing Agreement.

Parties: Korea Marine Transport Co., Ltd.; Sea Lead Shipping Pte. Ltd.; TS Container Lines Pte. Ltd.

Filing Party: Wayne Rohde, Cozen O'Connor.

Synopsis: The Agreement authorizes the parties to share vessels in the trade between ports in China and South Korea on the one hand and Los Angeles/Long Beach on the other hand.

Proposed Effective Date: 5/22/2025.

Location: https://www2.fmc.gov/FMC.Agreements.Web/Public/AgreementHistory/88621.

Dated: May 23, 2025.
Alanna Beck,
Federal Register Alternate Liaison Officer.

[FR Doc. 2025-09682 Filed 5-28-25; 8:45 am]

BILLING CODE 6730-02-P